DEPARTMENT OF HOUSING AND URBAN DEVELOPMENT

[Docket No. FR-4546-N-01]

Notice of Funding Availability Family Self-Sufficiency (FSS) Program Coordinators for the Section 8 Rental Certificate and Rental Voucher Programs for Fiscal Year 2000

AGENCY: Office of the Assistant Secretary for Public and Indian Housing, HUD.

ACTION: Notice of Funding Availability for Fiscal Year (FY) 2000 for Section 8 Family Self-Sufficiency Program Coordinators.

SUMMARY: Purpose of Program: The Section 8 FSS program is intended to promote the development of local strategies to coordinate the use of assistance under the Section 8 certificate and voucher programs with public and private resources to enable participating families to achieve economic independence and self-sufficiency. An FSS program coordinator assures that program participants are linked to the supportive services they need to achieve self-sufficiency.

Available Funds: This NOFA announces the availability of up to $29 million in Fiscal Year (FY) 2000 to fund Section 8 Family Self-Sufficiency (FSS) program coordinators.

Eligible Applicants: Public housing agencies (PHAs) eligible to receive funding under this NOFA are only those that received funding under one of the FY 99 NOFAs for Section 8 FSS Program Coordinators and that continue to operate a Section 8 FSS program.

Application Deadline: The application deadline for FSS Program Coordinator funding under this NOFA is May 30, 2000, at the time described under section I of Additional Information of this NOFA.

ADDITIONAL INFORMATION

I. Application Due Date, Application Kits, and Technical Assistance

Application Due Date: The application deadline for Section 8 FSS Program Coordinator funding under this NOFA is May 30, 2000, at the time described in section I of this NOFA. The application deadline is firm as to date and hour. In the interest of fairness to all competing PHAs, HUD will treat as ineligible for consideration any application that is not received by the application deadline. Applicants should take this practice into account and make early submission of their materials to avoid any risk of loss of eligibility brought about by unanticipated delays or other delivery-related problems. HUD will not accept, at any time during the NOFA competition, application materials sent via facsimile (FAX) transmission.

Official Place of Application Receipt: The original and a copy of the application should be submitted to Michael E. Diggs, Director of the PIH Grants Management Center, U.S. Department of Housing and Urban Development, 501 School Street, Suite 804, Washington, DC 20024 and one copy to the local HUD Field Office. In the interest of fairness to all competing applicants, HUD will not consider any application that is not submitted to and received by the PIH Grants Management Center at the address indicated above. For ease of reference, the term “GMC” will be used throughout the NOFA to mean the PIH Grants Management Center.

Mailed Applications: Applications will be considered timely filed if postmarked on or before 12 midnight on the application due date and received by the PIH Grants Management Center on or within ten (10) days of the application due date.

Applications Sent by Overnight/Express Mail Delivery: Applications sent by overnight delivery or express mail will be considered timely filed if received by the appropriate PIH Grants Management Center before or on the application due date, or upon submission of documentary evidence that they were placed in transit with the overnight delivery service by no later than the specified application due date.

Hand Carried Applications: Applications must be delivered to the PIH Grants Management Center by 5 pm on the due date. Hand carried applications will be accepted during normal business hours before the application due date.

For Application Kits, Further Information and Technical Assistance: There is no application kit for this NOFA. For answers to your questions, you may contact either the Public and Indian Housing Resource Center at 1-800-955-2232 or the HUB Director of Public Housing or the Program Center Coordinator in the local HUD Field Office. Hearing- or speech-impaired individuals may call HUD's TTY number 1-800-877-8339 (the Federal Information Relay Service TTY). Information can be accessed via the Internet at http://www.hud.gov. Prior to the application deadline, staff at the numbers given above will be available to provide general guidance, but not guidance in actually preparing the application. Following selection, but prior to award, HUD staff will be available to assist in clarifying or confirming information that is a prerequisite to the offer of an award by HUD.

II. Amount Allocated

For FY 2000, up to $29 million is available for PHA administrative fees for Section 8 FSS program coordinators. This amount is composed of $25.1 million from the Departments of Veterans Affairs and Housing and Urban Development, and Independent Agencies Appropriations Act, 2000 (Pub. L. 106-74, enacted October 21, 1999), and approximately $3.4 million in FY 1999 carryover authority from the Departments of Veterans Affairs and Housing and Urban Development, and Independent Agencies Appropriations Act, 1999 (Pub. L. 105-276, approved October 21, 1998). All of the approximately $29 million being made available in FY 2000 will be provided to those PHAs that received funds in response to the FY 99 Section 8 FSS program coordinator NOFAs. This is the seventh fiscal year of funding for Section 8 FSS program coordinators.

HUD Corrections to Funding Provided Under the FY 99 NOFA

If prior to award of funding under the FY 2000 Section 8 FSS NOFA, HUD determines that any PHAs have been underfunded in amounts awarded under the FY 99 FSS Program Coordinator NOFAs, before funding any applications under the FY 2000 NOFA, the Department will increase funding to the amount that the PHAs should have received under the FY 99 FSS NOFAs with funding available under the FY 2000 FSS NOFA.

III. Program Description; Eligible Applicants; Eligible Activities

(A) Program Description

In the earliest FSS program coordinator NOFAs, HUD provided funding for Section 8 FSS program coordinators only to PHAs with Section 8 programs of fewer than 1,000 units. The FY 1994 and FY 1995 funds were awarded to these PHAs based on a request for funding, and all complete applications were funded. The FY 1996 funds were awarded based on a competitive NOFA. In FY 1996, state and regional PHAs that administered more than 1,000 rental vouchers and certificates, but fewer than 1,000 mandatory FSS slots, were also eligible to apply, and some received funding. In FY 1997, HUD allocated funds for Section 8 FSS program coordinators to allow PHAs that were previously funded to continue to pay a Section 8 FSS coordinator. Since funding for Section 8 FSS program coordinators was limited, HUD did not accept applications from PHAs that were not previously funded. In FY 1998 HUD awarded funds to PHAs that were funded for Section 8 FSS program coordinators in FY 1997 to continue to pay for an FSS coordinator for another year and was also able to fund additional eligible small PHAs and state and regional PHAs that did not receive Section 8 FSS program coordinator funding in the previous year. HUD extended eligibility for funding under the FY 98 NOFA to include PHAs operating voluntary Section 8 FSS programs as well as those with mandatory Section 8 FSS programs.

In FY 99, HUD published two Section 8 FSS NOFAs that made a sufficient amount available to continue funding for another year to those PHAs that received funding under the FY 98 NOFA. In FY 99 HUD was also able to fund applications from PHAs (including state and regional HAs) that were not funded in FY 98, for PHAs with approval to administer voluntary or mandatory Section 8 FSS programs of at least 25 slots.

Under the FY 99 NOFAs, for the first time, there was no maximum Section 8 rental certificate/voucher program size limit for PHAs eligible to apply for funding under the NOFA.

The response to the FY '99 NOFA was so strong that HUD expects to need all available funds in FY 2000 for renewals of Section 8 FSS program coordinators funded under the FY 99 NOFAs to allow PHAs to continue to pay a Section 8 FSS program coordinator for another year.

(B) Eligible Applicants

Subject to the availability of sufficient funding, all PHAs that received funding under one of the FY 99 NOFAs for Section 8 FSS program coordinators that are still operating Section 8 FSS programs will be funded in FY 2000, except those PHAs submitting applications that are ineligible under Section VII.(C) of this NOFA, provided the PHA continues to operate a Section 8 FSS program, has hired a Section 8 FSS program coordinator with funding awarded for that purpose under one of the FY '99 FSS program coordinator NOFAs, and has made progress in implementing the FSS program demonstrated by having completed activities in each of the categories in section 2 of the required Attachment A certification of this NOFA. Subject to the availability of funds, the eligible PHAs funded in FY 99 will receive 103 percent of FY 99 funding (not to exceed $47,700) unless the PHA requests a lower amount or the salary comparability information submitted by the PHA supports approval of a lower amount. HUD will not provide FY 2000 funding to any PHA that received Section 8 FSS Program Coordinator funding in FY 99 that does not comply with all of the above requirements.

(C) Eligible Activities

Funds are available under this NOFA to employ or otherwise retain the services of up to one Section 8 FSS program coordinator for one year. A part-time Section 8 FSS program coordinator may be retained where appropriate. Under the Section 8 FSS program, PHAs are required to use Section 8 rental assistance together with public and private resources to provide supportive services to enable participating families to achieve economic independence and self-sufficiency. Effective delivery of supportive services is a critical element in a successful FSS program.

IV. Program Requirements

(A) Program Coordinator Role

PHAs administering the FSS program use program coordinating committees (PCCs) to assist them to secure resources and implement the FSS program. The PCC is made up of representatives of local government, job training and employment agencies, local welfare agencies, educational institutions, child care providers, nonprofit service providers, and businesses.

An FSS program coordinator works with the PCC and with local service providers to assure that program participants are linked to the supportive services they need to achieve self-sufficiency. The FSS program coordinator may ensure, through case management, that the services included in participants’ contracts of participation are provided on a regular, ongoing and satisfactory basis, and that participants are fulfilling their responsibilities under the contracts.

(B) Staffing Guidelines

Under normal circumstances, a full-time FSS program coordinator should be able to serve approximately 50 FSS participants, depending on the coordinator's case management functions.

(C) Other Requirements

(1) Compliance With Fair Housing and Civil Rights Laws.

All applicants must comply with all fair housing and civil rights laws, statutes, regulations, and executive orders as enumerated in 24 CFR 5.105(a). If an applicant: (a) Has been charged with a systemic violation of the Fair Housing Act by the Secretary alleging ongoing discrimination; (b) is the defendant in a Fair Housing Act lawsuit filed by the Department of Justice alleging an ongoing pattern or practice of discrimination; or (c) has received a letter of noncompliance findings under Title VI of the Civil Rights Act of 1964, section 504 of the Rehabilitation Act of 1973, or section 109 of the Housing and Community Development Act of 1974, the applicant's application will not be evaluated under this NOFA if, prior to the application deadline, the charge, lawsuit, or letter of findings has not been resolved to the satisfaction of the Department. HUD's decision regarding whether a charge, lawsuit, or a letter of findings has been satisfactorily resolved will be based upon whether appropriate actions have been taken necessary to address allegations of ongoing discrimination in the policies or practices involved in the charge, lawsuit, or letter of findings.

(2) Additional Nondiscrimination Requirements.

Applicants must comply with the Americans with Disabilities Act, and Title IX of the Education Amendments Act of 1972. In addition to compliance with the civil rights requirements listed at 24 CFR section 5.105, each successful applicant must comply with the nondiscrimination in employment requirements of Title VII of the Civil Rights Act of 1964, U.S.C. sections 2000e et seq.; the Equal Pay Act, 29 U.S.C. section 206(d); the Age Discrimination in Employment Act of 1967, 29 U.S.C. sections 621 et seq., and Titles I and V of the Americans with Disabilities Act, 42 U.S.C. sections 12101 et seq.

(3) Affirmatively Furthering Fair Housing.

Each successful applicant will have a duty to affirmatively further fair housing. After the application is approved, applicants will be required to identify the specific steps that they will take to: (a) Address the elimination of impediments to fair housing that were identified in the jurisdiction's Analysis of Impediments (AI) to Fair Housing Choice; (b) remedy discrimination in housing; or (c) promote fair housing rights and fair housing choice. Further, applicants have a duty to carry out the specific activities cited in their responses in a manner which will affirmatively further fair housing.

V. Application Selection Process

The funds available under this NOFA are not being awarded on a competitive basis. The Department anticipates that there will be sufficient funds available under the NOFA to fund all applications that meet the NOFA requirements. Applications will be reviewed by the GMC to determine whether or not they are technically adequate based on the NOFA requirements. Categories of applications that will not be funded are stated in section VII(C) of this NOFA.

All technically adequate applications will be funded to the extent funds are available. If HUD receives applications for funding greater than the amount made available under this NOFA, HUD will fund eligible applicants in size order starting from the smallest PHAs first (i.e., those PHAs with the smallest combined rental voucher and certificate programs first). Section 8 program size will be determined by HUD using baseline data developed by the Department. If there are not sufficient monies to fund all applications from PHAs with the same combined Section 8 rental certificate voucher program size, funding will be provided based on the size of the PHA's Section 8 FSS program, reflected in the PHA's HUD-approved Section 8 FSS Action Plan, starting with the largest approved Section 8 FSS program. If there is insufficient money remaining to fully fund the last application funded, HUD will provide residual funding to that application in an amount less than the amount requested by the PHA, unless the PHA is unwilling to accept the lower amount.

VI. Application Submission Requirements

(A) Each PHA that received funding for a Section 8 FSS program coordinator under one of the FY 99 NOFAs that wishes to receive funding under this NOFA must complete a certification in the format shown as “Attachment A” of this NOFA, which includes all information required in “Attachment A.” The completed Attachment A certification along with the Fair Housing Certification (Attachment B of this NOFA) and the Certification Regarding Lobbying (Attachment C of this NOFA) constitute the entire HA application for funding under this section. These three certifications and supporting documents must be submitted to the GMC by the due date.

(B) Fair Housing Certification and Certification Regarding Lobbying: All PHAs applying for funding under this NOFA must submit the Certification Regarding Fair Housing and Equal Opportunity which is included as Attachment B of this NOFA and the Certification Regarding Lobbying which is Attachment C of this NOFA.

VII. Corrections to Deficient Applications

(A) Acceptable Applications

To be eligible for processing, an application must be received by the GMC no later than the date and time specified in this NOFA. The GMC will initially screen all applications and notify PHAs of technical deficiencies by letter.

(B) Correction of Deficient Applications

After the application due date, HUD may not, consistent with 24 CFR part 4, subpart B, consider unsolicited information from an applicant. HUD may contact an applicant, however, to clarify an item in the application or to correct technical deficiencies. Applicants should note, however, that HUD may not seek clarification of items or responses that improve the substantive quality of the applicant's response to any eligibility or selection criterion. Examples of curable technical deficiencies include failure to submit the proper certifications or failure to submit an application containing an original signature by an authorized official. In each case, HUD will notify the applicant in writing by describing the clarification or technical deficiency. HUD will notify applicants by facsimile or by return receipt requested. Applicants must submit clarifications or corrections of technical deficiencies in accordance with the information provided by HUD within 14 calendar days of the date of receipt of the HUD notification. If the deficiency is not corrected within this time period, HUD will reject the application as incomplete.

(C) Unacceptable Applications

(1) After the 14-calendar day technical deficiency correction period, the GMC will disapprove PHA applications that it determines are not acceptable for processing. The HUD notification of rejection letter must state the basis for the decision.

(2) Applications from PHAs that fall into any of the following categories are ineligible for funding under this NOFA and will not be processed:

(a) An PHA application submitted after the deadline date for this NOFA.

(b) An application from a PHA that is not an eligible PHA under III.(B) of this NOFA or an application that does not comply with the requirements of VI.(A) or VI.(B) of this NOFA.

(c) An application from a PHA that does not meet the requirements of IV.C.(1) of this NOFA, Compliance with Fair Housing and Civil Rights Laws.

(d) An application from a PHA that at the end of the 14-calendar day technical correction period has not made progress satisfactory to HUD in resolving serious outstanding Inspector General audit findings, or serious outstanding HUD management review findings for one or more of the following programs: Rental Voucher, Rental Certificate or Moderate Rehabilitation. Serious program management findings are those that would cast doubt on the capacity of the PHA to administer its Section 8 programs in accordance with applicable HUD regulatory and statutory requirements.

VIII. Findings and Certifications

(A) Paperwork Reduction Act

The Section 8 information collection requirements contained in this notice were submitted to the Office of Management and Budget for review under the provisions of the Paperwork Reduction Act of 1995 (44 U.S.C. 3501-3520) and have been assigned OMB control number 2577-0198. An agency may not conduct or sponsor, and a person is not required to respond to, a collection of information unless the collection displays a valid control number.

(B) Environmental Requirements

In accordance with provisions of 24 CFR part 50.19(c)(5)(ii), a finding of no significant impact is not required under this Notice. This NOFA provides funding under 24 CFR part 984, which does not contain environmental review provisions because it concerns activities that are listed in 24 CFR 50.19(b) as categorically excluded from environmental review under the National Environmental Policy Act of 1969 (42 CFR 4321) (“NEPA”). Accordingly, under 24 CFR 50.19(c)(5), this NOFA is categorically excluded from environmental review under NEPA. No environmental review is required in connection with the award of assistance under this NOFA, because the NOFA only provides funds for employing a coordinator that provides public and supportive services, which are categorically excluded under 24 CFR 50.19(b)(4) and (12).

(C) Catalog of Federal Domestic Assistance Numbers

The catalog of Federal Domestic Assistance number for the Section 8 rental certificate program is 14.855. The number for the Section 8 rental voucher program is 14.857.

(D) Executive Order 13132, Federalism

This notice does not have federalism implications and does not impose substantial direct compliance costs on State and local governments or preempt State law within the meaning of the Executive Order. The NOFA makes funds available for HAs to employ or otherwise retain the services of up to one FSS program coordinator for one year. As such, there are no direct implications on the relationship between the national government and the states or on the distribution of power and responsibilities among various levels of government.

(E) Accountability in the Provision of HUD Assistance

Section 102 of the Department of Housing and Urban Development Reform Act of 1989 (HUD Reform Act) and the final rule codified at 24 CFR part 4, subpart A, published on April 1, 1996 (61 FR 1448), contain a number of provisions that are designed to ensure greater accountability and integrity in the provision of certain types of assistance administered by HUD. On January 14, 1992, HUD published, at 57 FR 1942, a notice that also provides information on the implementation of section 102. The documentation, public access, and disclosure requirements of section 102 are applicable to assistance awarded under this NOFA as follows:

Documentation and Public Access Requirements

HUD will ensure that documentation and other information regarding each application submitted pursuant to this NOFA are sufficient to indicate that basis upon which assistance was provided or denied. This material, including any letters of support, will be made available for public inspection for a five-year period beginning not less than 30 days after the award of the assistance. Material will be made available in accordance with the Freedom of Information Act (5 U.S.C. 552) and HUD's implementing regulations at 24 CFR part 15. In addition, HUD will include the recipients of assistance pursuant to this NOFA in its Federal Register notice of all recipients of HUD assistance awarded on a competitive basis.

Disclosures

HUD will make available to the public for five years all applicant disclosure reports (HUD Form 2880) submitted in connection with this NOFA. Update reports (also Form 2880) will be made available along with the applicant disclosure reports, but in no case for a period of less than three years. All reports—both applicant disclosures and updates—will be made available in accordance with the Freedom of Information Act (5 U.S.C. 552) and HUD's implementing regulations at 24 CFR part 15.

(F) Section 103 HUD Reform Act

HUD will comply with section 103 of the Department of Housing and Urban Development Reform Act of 1989 and HUD's implementing regulations in subpart B of 24 CFR part 4 with regard to the funding competition announced today. These requirements continue to apply until the announcement of the selection of successful applicants. HUD employees involved in the review of applications and in the making of funding decisions are limited by section 103 from providing advance information to any person (other than an authorized employee of HUD) concerning funding decisions, or from otherwise giving any applicant an unfair competitive advantage. Persons who apply for assistance in this competition should confine their inquiries to the subject areas permitted under section 103 and subpart B of 24 CFR part 4.

Applicants or employees who have ethics related questions should contact the HUD Office of Ethics (202) 708-3815. (This is not a toll-free number.) For HUD employees who have specific program questions, such as whether particular subject matter can be discussed with persons outside HUD, the employee should contact the appropriate Field Office Counsel.

(G) Prohibition Against Lobbying Activities

Applicants for funding under this NOFA are subject to the provisions of section 319 of the Department of Interior and Related Agencies Appropriation Act for Fiscal Year 1991 (31 U.S.C. 1352) (the Byrd Amendment) and to the provisions of the Lobbying Disclosure Act of 1995 (Pub. L. 104-65; approved December 19, 1995).

The Byrd Amendment, which is implemented in regulations at 24 CFR part 87, prohibits applicants for Federal contracts and grants from using appropriated funds to attempt to influence Federal executive or legislative officers or employees in connection with obtaining such assistance, or with its extension, continuation, renewal, amendment, or modification. The Byrd Amendment applies to the funds that are the subject of this NOFA. Therefore, applicants must file a certification stating that they have not made and will not make any prohibited payments and, if any payments or agreement to make payments of nonappropriated funds for these purposes have been made, a form SF-LLL disclosing such payments must be submitted. The certification and the SF-LLL are included as Attachment D of this NOFA.

The Lobbying Disclosure Act of 1995 (Pub. L. 104-65; approved December 19, 1995), which repealed section 112 of the HUD Reform Act, requires all persons and entities who lobby covered executive or legislative branch officials to register with the Secretary of the Senate and the Clerk of the House of Representatives and file reports concerning their lobbying activities.

IX. Authority

The Departments of Veterans Affairs and Housing and Urban Development and Independent Agencies Appropriations Act, 2000 (Pub. L. No. 106-74, enacted October 21, 1999) allows funding for program coordinators under the Section 8 FSS program. As a result, the Department determined to make a sufficient amount available under this NOFA, under Part 984, in accordance with section 984.302(b), to enable PHAs to employ up to one Section 8 FSS program coordinator for one year at a reasonable cost as determined by the PHA and HUD, based on salaries for similar positions in the locality.

Dated: March 23, 2000.
Harold Lucas,
Assistant Secretary for Public and Indian Housing.

Attachment A—Required Certification Format for FY 2000 Section 8 FSS Program Coordinator Funding ¹

¹ To be eligible for funding under this NOFA, PHAs must have received Section 8 FSS Program Coordinator funding under a FY 99 FSS NOFA, must have hired an FSS program coordinator with funding awarded under that NOFA, must demonstrate activities in each of the categories in section 2(a), 2(b), and 2(c) of this Attachment A certification and must still be operating a Section 8 FSS program.

Mr. Michael E. Diggs, Director, Grants Management Center, 501 School Street, Suite 804, Washington, DC 20024.

Dear Mr. Diggs: In connection with the FY 2000 NOFA for Section 8 FSS program coordinators, I hereby certify for the ___ (enter PHA name) ² that:

² For joint applications, please indicate the names of all co-applicants and identify the lead PHA that received and administered funds received under the FY ’99 NOFA.

(1) The PHA which received funding under a FY ’99 FSS program coordinator NOFA, continues to operate a Section 8 FSS program and has hired a Section 8 FSS program coordinator using HUD funds provided for that purpose on ___ (enter the ACC effective date of Section 8 FY 99 FSS program coordinator funding increment), and

(2) The PHA has (check all that apply):

_ (a) Formed and convened an FSS program coordinating committee,

_ (b) Obtained HUD approval of its Section 8 FSS action plan,

_ (c) Executed contracts of participation with FSS participants.

(3) Total number of Section 8 FSS program slots based on the number of (both voluntary and mandatory) FSS slots identified in the PHA's HUD-approved Action Plan OR, when HAs are applying jointly, the combined total of Section 8 FSS program slots in the HUD-approved Action Plans of the PHAs: ___.

(4) Amount requested under the FY 2000 Section 8 FSS NOFA: ___.

(5) Section 8 FSS Program Coordinator Salary:

a. Salary level, based on salaries for comparable jobs (modified by number of hours worked) ___.

b. Annual salary plus Fringe Benefits:

___ Hours/Week; ___ $/Hour; ___ Fringe Rate (%); Annual Salary: ___.

(6) Attachment: Evidence demonstrating salary comparability to similar positions in the local jurisdiction.

If there are any questions, please contact ___ at ___.

Sincerely,

Executive Director.

Attachments

Attachment B—Fair Housing and Equal Opportunity Certifications

The housing agency (PHA) certifies that in administering the funding for the Section 8 Family Self-Sufficiency program coordinators it will comply with the requirements of the Fair Housing Act, Title VI of the Civil Rights Act of 1964, section 504 of the Rehabilitation Act of 1973, and the Age Discrimination Act of 1975, and will affirmatively further fair housing. CDBG recipients also must certify to compliance with section 109 of the Housing and Community Development Act.

Name of PHA

Signature and Title of PHA Representative

Date

Attachment C—Certification Regarding Lobbying

The undersigned certifies, to the best of his or her knowledge and belief, that:

(1) No Federal appropriated funds have been paid or will be paid, by or on behalf of the undersigned, to any person for influencing or attempting to influence an officer or employee of any agency, a Member of Congress, an officer or employee of Congress, or an employee of a Member of Congress in connection with the awarding of any Federal contract, the making of any Federal grant, the making of any Federal loan, the entering into of any cooperative agreement, and the extension, continuation, renewal, amendment, or modification of any Federal contract, grant, loan, or cooperative agreement.

(2) If any funds other than Federal appropriated funds have been paid or will be paid to any person for influencing or attempting to influence an officer or employee of any agency, a Member of Congress, an officer or employee of Congress, or an employee of a Member of Congress in connection with this Federal contract, grant, loan, or cooperative agreement, the undersigned shall complete and submit Standard Form-LLL, “Disclosure Form to Report Lobbying,” in accordance with its instructions.

(3) The undersigned shall require that the language of this certification be included in the award documents for all subawards at all tiers (including subcontracts, subgrants, and contracts under grants, loans and cooperative agreements) and that all subrecipients shall certify and disclose accordingly.

This certification is a material representation of fact upon which reliance was placed when this transaction was made or entered into. Submission of this certification is a prerequisite for making or entering into this transaction imposed by section 1342, title 31, U.S. Code. Any person who fails to file the required certification shall be subject to a civil penalty of not less than $10,000 and not more than $100,000 for each such failure.

Signature of PHA Representative

Name of Signatory (print or type)

Name of PHA

Date signed

[FR Doc. 00-7781 Filed 3-29-00; 8:45 am]

BILLING CODE 4210-33-P